DEPARTMENT OF STATE

[Public Notice 12579]

30-Day Notice of Proposed Information Collection: Law Enforcement Officers Safety Act (LEOSA) Photographic Identification Card Application

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments up to December 13, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Direct requests for additional information regarding the collection listed in this notice, including requests for copies of the proposed collection instrument and supporting documents, to Jason Taylor, SA-9 2025 E Street NW, Washington, DC 20588, who may be reached on 202-472-8801 or at TaylorJE@state.gov.

SUPPLEMENTARY INFORMATION:

• Title of Information Collection: LEOSA Photographic Identification Card Application.

• OMB Control Number: 1405-0245.

• Type of Request: Renewal of an approved information collection.

• Originating Office: Diplomatic Security, Domestic Operations, Security Support Division (DS/DO/DFP/SSD).

• Form Number: DS-7809.

• Respondents: Current and former Diplomatic Security Service special agents.

• Estimated Number of Respondents: 90.

• Estimated Number of Responses: 90.

• Average Time per Response: 1 hour.

• Total Estimated Burden Time: 90 hours.

• Frequency: Once per application.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

This information is being collected in response to the Department's requirements under the Law Enforcement Officers Safety Act of 2004 (LEOSA), as amended and codified at 18 U.S.C. 926C, which exempts a “qualified retired law enforcement officer” carrying a LEOSA photographic identification card from most state and local laws prohibiting the carriage of concealed firearms, subject to certain restrictions and exceptions.

Methodology

Applicants will download the application form from the Department's website and fill it out either electronically or by hand and submit via email or mail.

John Ferguson,
Division Chief, Bureau of Diplomatic Security, Department of State.

[FR Doc. 2024-26217 Filed 11-12-24; 8:45 am]

BILLING CODE 4710-43-P